DEPARTMENT OF TRANSPORTATION

Federal Aviation Administration

[Docket No. FAA-2024-1988]

Agency Information Collection Activities: Requests for Comments; Clearance of a Renewed Approval of Information Collection: Small Unmanned Aircraft Systems (sUAS) Safety Event Reporting

AGENCY: Federal Aviation Administration (FAA), DOT.

ACTION: Notice and request for comments.

SUMMARY: In accordance with the Paperwork Reduction Act of 1995, FAA invites public comments about our intention to request the Office of Management and Budget (OMB) approval to renew an information collection. The collection involves information that must be reported to the FAA about small unmanned aircraft system (sUAS) safety events if they result in serious injury or damage exceeding certain thresholds.

DATES: Written comments should be submitted by September 30, 2024.

ADDRESSES: Please send written comments:

By Electronic Docket: www.regulations.gov (Enter docket number into search field).

By mail: Benjamin Walsh, FAA Flight Standards Service, Emerging Technologies Division, AFS-700, 800 Independence Ave. SW, Washington, DC 20591.

By fax: 202-267-8233.

FOR FURTHER INFORMATION CONTACT: Benjamin Walsh by email at: ben.walsh@faa.gov; phone: 202-267-8233.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0767.

Title: Small Unmanned Aircraft Systems (sUAS) Safety Event Reporting.

Form Numbers: N/A (web portal: https://faadronezone.faa.gov).

Type of Review: Renewal of an information collection.

Background: The title of this information collection is being changed from “Small Unmanned Aircraft Systems (sUAS) Accident Reporting” to “Small Unmanned Aircraft Systems (sUAS) Safety Event Reporting” to reflect the change made to the title of the applicable regulation (14 CFR, 107.9) in 2022. 14 CFR part 107.9 requires that a small unmanned aircraft system safety event be reported if it causes: (1) serious injury to any person or any loss of consciousness; or (2) damage to any property, other than the small unmanned aircraft, unless the cost of repair or fair market value in the event of total loss does not exceed $500. The information collected by the FAA through its DroneZone web portal, Flight Standards District Offices, one of the Regional Operations Centers, or the Washington Operations Center for each small UAS safety event will be used to investigate and determine regulatory compliance. In addition, the safety event information will go into the FAA aircraft accident database for safety analysis purposes by the FAA Office of Accident Investigation and Analysis, pursuant to its statutory safety mission.

As is currently the case for manned aircraft accidents, small UAS safety event data will be made available to the public and the National Transportation Safety Board (NTSB).

Respondents: Small Unmanned Aircraft System operators that experience a safety event that must be reported to the FAA per 14 CFR, 107.9. Approximately 41 per year.

Frequency: On occasion.

Estimated Average Burden per Response: 15 minutes.

Estimated Total Annual Burden: 10.25 hours.

Issued in Washington, DC, on July 26, 2024.
Joseph Morra,
Manager, Emerging Technologies Division, AFS-700.

[FR Doc. 2024-16892 Filed 7-30-24; 8:45 am]

BILLING CODE 4910-13-P